DEPARTMENT OF ENERGY

Environmental Management Site-Specific Advisory Board, Paducah

AGENCY: Office of Environmental Management, Department of Energy.

ACTION: Notice of in-person/virtual hybrid open meeting.

SUMMARY: This notice announces an in-person/virtual hybrid meeting of the Environmental Management Site-Specific Advisory Board (EM SSAB), Paducah. The Federal Advisory Committee Act requires that public notice of this in-person/virtual hybrid meeting be announced in the Federal Register.

DATES: Thursday, November 18, 2021; 5:30 p.m.-7:00 p.m.

ADDRESSES: This hybrid meeting will be conducted in person for Board members, Department of Energy (DOE) representatives and support staff, and virtually for all other participants. Members of the public will observe the meeting via YouTube at this link: https://www.youtube.com/channel/UCB_pI932yzZve_RiXOKjxIw.

Board members, DOE representatives and support staff will participate in-person, strictly following COVID-19 precautionary measures, at: West Kentucky Community and Technical College, Emerging Technology Building, Room 222, 5100 Alben Barkley Drive, Paducah, KY 42001.

Board liaisons and supporting contractors will participate via virtual platforms.

FOR FURTHER INFORMATION CONTACT: Eric Roberts, Board Support Manager, by Phone: (270) 554-3004 or Email: eric@pgdpcab.org.

SUPPLEMENTARY INFORMATION: Purpose of the Board: The purpose of the Board is to make recommendations to DOE-EM and site management in the areas of environmental restoration, waste management, and related activities.

Tentative Agenda:

• Review of Agenda

• Administrative Issues

• Reading of Public Comments

Public Participation: The in-person/online virtual hybrid meeting is open to the public and can be observed at https://www.youtube.com/channel/UCB_pI932yzZve_RiXOKjxIw. Written statements may be filed with the Board either before or after the meeting as there will not be opportunities for live public comment during this online virtual meeting. Comments received by no later than 5:00 p.m. CST on Friday, November 12, 2021, will be read aloud during the meeting. Comments will also be accepted after the meeting, by no later than 5:00 p.m. CST on Friday, November 26, 2021. Please submit comments to the Paducah Board Support Manager at the aforementioned email address. Please put “Public Comment” in the subject line. The Deputy Designated Federal Officer is empowered to conduct the meeting in a fashion that will facilitate the orderly conduct of business. Individuals wishing to submit public comments should email them as directed above.

Minutes: Minutes will be available by writing or calling Eric Roberts, Board Support Manager, Emerging Technology Center, Room 221, 4810 Alben Barkley Drive, Paducah, KY 42001; Phone: (270) 554-3004. Minutes will also be available at the following website: https://www.energy.gov/pppo/pgdp-cab/listings/meeting-materials.

Signed in Washington, DC, on October 13, 2021.
LaTanya Butler,
Deputy Committee Management Officer.

[FR Doc. 2021-22621 Filed 10-15-21; 8:45 am]

BILLING CODE 6450-01-P